DEPARTMENT OF TRANSPORTATION

Pipeline and Hazardous Materials Safety Administration

[Docket No. PHMSA-2010-0194]

Pipeline Safety: Personal Electronic Device Related Distractions

AGENCY: Pipeline and Hazardous Materials Safety Administration (PHMSA); DOT.

ACTION: Notice; Issuance of Advisory Bulletin.

SUMMARY: PHMSA is issuing an Advisory Bulletin to remind owners and operators of natural gas and hazardous liquid pipeline facilities of the risks associated with the use of personal electronic devices (PEDs) by individuals performing operations and maintenance activities on a pipeline facility.

FOR FURTHER INFORMATION CONTACT: Cameron Satterthwaite by phone at 202-366-1319 or by e-mail at cameron.satterthwaite@dot.gov. General information about the Department of Transportation initiative on distracted driving may be found at http://www.distractions.gov. Information about PHMSA may be found at http://phmsa.dot.gov.

SUPPLEMENTARY INFORMATION:

Background

The U.S. Department of Transportation is leading the effort to end the dangerous practice of distracted driving on our nation's roadways and in other modes of transportation. The use of PEDs, such as cellular telephones and mobile computers, while operating motor vehicles has been the subject of recent Departmental regulations and guidance. (e.g., Restrictions on Railroad Operating Employees' Use of Cellular Telephones and Other Electronic Devices, 75 FR 9754, May 18, 2010; Limiting the Use of Wireless Communication Devices, 75 FR 16391, April 1, 2010.) In furtherance of this effort, PHMSA recognizes that the use of PEDs by pipeline employees who are performing operations and maintenance activities may pose a similar risk to safety if those individuals are distracted, especially when such use is for personal business.

The Federal pipeline safety regulations in 49 CFR Parts 190 through 199 prescribe minimum safety standards for pipeline transportation and for pipeline facilities. Owners and operators of natural gas and hazardous liquid pipeline facilities are required to have and follow written procedures for safely conducting operations and maintenance tasks. (49 CFR 192.605, 193.2503, and 195.402) Individuals performing those tasks, particularly activities that affect the operation or integrity of the pipeline facility, must be qualified under a program developed by each operator that ensures individuals are trained and have the knowledge, skills, and ability necessary to perform the tasks safely and to recognize and react to abnormal conditions. (49 CFR 192.805, 193.2707, and 195.505.)

There may be increased risks associated with the use of PEDs by personnel performing pipeline activities affecting operation or integrity. Pipeline operations and maintenance tasks require a critical level of attention and skill, which may be compromised by visual, manual, or cognitive distractions caused by the use of PEDs. Such distractions may also hinder their prompt recognition and reaction to abnormal operating conditions and emergencies.

PHMSA recommends that operators integrate into their written procedures for operations and maintenance appropriate controls regarding the use of PEDs by individuals performing pipeline tasks that may affect pipeline operation or integrity. PHMSA is not discouraging the use of PEDs as a part of normal business operations. PHMSA also recommends that operators provide guidance and training for all personnel about the risks associated with the use of PEDs while driving, and while performing activities on behalf of the company if that use poses a risk to safety.

Advisory Bulletin (ADB-10-06)

To: Owners and Operators of Hazardous Liquid and Natural Gas Pipeline Systems.

Subject: Personal Electronic Device (PED) Related Distractions.

Advisory: As with other modes of transportation, PHMSA recognizes the use of PEDs by pipeline employees who are performing operations and maintenance activities may increase safety risks if those individuals become distracted. In furtherance of the Department's effort to end the dangerous practice of distractions caused by PEDs throughout the various modes of transportation, PHMSA is issuing this Advisory Bulletin about the potential for distractions affecting pipeline safety.

PHMSA reminds owners and operators of natural gas and hazardous liquid pipeline facilities that there may be increased risks associated with the use of PEDs by individuals performing activities that affect pipeline operation or integrity. Pipeline operations and maintenance tasks require a critical level of attention and skill, which may be compromised by visual, manual, and cognitive distractions caused by the use of PEDs. Such distractions may also hinder their prompt recognition and reaction to abnormal operating conditions and emergencies.

Owners and operators of natural gas and hazardous liquid pipeline facilities should integrate into their written procedures for operations and maintenance appropriate controls regarding the personal use of PEDs by individuals performing pipeline tasks that may affect the operation or integrity of a pipeline. PHMSA is not discouraging the use of PEDs as a part of normal business operations. Owners and operators should also provide guidance and training for all personnel about the risks associated with the use of PEDs while driving and while performing activities on behalf of the company if that use poses a risk to safety.

Issued in Washington, DC, on July 27, 2010.
Jeffrey D. Wiese,
Associate Administrator for Pipeline Safety.

[FR Doc. 2010-18947 Filed 8-2-10; 8:45 am]

BILLING CODE 4910-60-P